DEPARTMENT OF COMMERCE

National Oceanic and Atmospheric Administration

Agency Information Collection Activities; Submission to the Office of Management and Budget (OMB) for Review and Approval; Comment Request; Southeast Region Vessel Monitoring System (VMS) and Related Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 12, 2022, during a 60-day comment period. This notice allows for an additional 30 days for public comments.

Agency: National Oceanic & Atmospheric Administration (NOAA), Commerce.

Title: Southeast Region Vessel Monitoring System and Related Requirements.

OMB Control Number: 0648-0544.

Form Number(s): None.

Type of Request: Regular submission (extension of a current information collection).

Number of Respondents: 901.

Average Hours per Response: Annual VMS maintenance, 2 hours; Installation/Activation of VMS unit, 5 hours; Installation and activation checklist, 20 minutes; power-down exemption request, 5 minutes; and trip declaration, 1 minute.

Total Annual Burden Hours: 2,628.

Needs and Uses: The NMFS, Office of Law Enforcement, Southeast Enforcement Division is submitting this request for an extension of a currently approved information collection.

The Magnuson-Stevens Fishery Conservation and Management Act authorizes the Gulf of Mexico Fishery Management Council (Gulf Council) and South Atlantic Fishery Management Council (South Atlantic Council) to prepare and amend fishery management plans for any fishery in Federal waters under their respective jurisdictions. NMFS and the Gulf Council manage the reef fish fishery in the Gulf of Mexico (Gulf) under the Fishery Management Plan (FMP) for the Reef Fish Resources of the Gulf of Mexico. NMFS and the South Atlantic Council manage the fishery for rock shrimp in the South Atlantic under the FMP for the Shrimp Fishery in the South Atlantic Region. The vessel monitoring system (VMS) regulations for the Gulf reef fish fishery and the South Atlantic rock shrimp fishery may be found at 50 CFR 622.28 and 622.205, respectively.

The FMPs and the implementing regulations contain several specific management areas where fishing is restricted or prohibited to protect habitat or spawning aggregations, or to control fishing pressure. Unlike size, bag, and trip limits, where the catch can be monitored on shore when a vessel returns to port, area restrictions require at-sea enforcement. However, at-sea enforcement of offshore areas is difficult due to the distance from shore and the limited number of patrol vessels, resulting in a need to improve enforceability of area fishing restrictions through remote sensing methods. In addition, all fishing gears are subject to some area fishing restrictions. Because of the sizes of these areas and the distances from shore, the effectiveness of enforcement through over flights and at-sea interception is limited. An electronic VMS allows a more effective means to monitor vessels for intrusions into restricted areas.

The VMS provides effort data and significantly aids in enforcement of areas closed to fishing. All position reports are treated in accordance with NMFS existing guidelines for confidential data. As a condition of authorized fishing for or possession of Gulf reef fish or South Atlantic rock shrimp in or from Federal waters, vessel owners or operators subject to VMS requirements must allow NMFS, the United States Coast Guard, and their authorized officers and designees, access to the vessel's position data obtained from the VMS.

The information collected on the “Vessel Monitoring System Installation and Activation Certification for the Reef Fish Fishery of the Gulf of Mexico” form provides NMFS assurance that vessels are compliant with the requirements to install and activate an approved VMS unit. Information collected on the “Vessel Monitoring System Mobile Transceiver Unit (MTU) Power-Down Exemption Request for Vessels in the Gulf of Mexico Reef Fish Fishery” form provides information that allows NMFS to exempt a vessel from their the VMS reporting requirement under specific criteria.

Affected Public: Business or other for-profit organizations.

Frequency: VMS unit installation, once; installation and activation checklist, once; power down exemption request, variable but on average less than once per year; trip declaration, variable but an average of 9 annually per vessel; and annual maintenance once per year.

Respondent's Obligation: Submission of the Installation and Activation certification is and mandatory. Transmission of fishing activity report is mandatory. Submission of a Power down Exemption Authorization request is required to obtain or retain benefits.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0544.

Sheleen Dumas,
Department PRA Clearance Officer, Office of the Chief Information Officer, Commerce Department.

[FR Doc. 2022-09820 Filed 5-5-22; 8:45 am]

BILLING CODE 3510-22-P